DEPARTMENT OF COMMERCE

National Oceanic and Atmospheric Administration

50 CFR Part 648

[Docket No. 140106010-4010-01]

RIN 0648-XD069

Fisheries of the Northeastern United States; Atlantic Deep-Sea Red Crab Fishery; 2014-2016 Atlantic Deep-Sea Red Crab Specifications

AGENCY: National Marine Fisheries Service (NMFS), National Oceanic and Atmospheric Administration (NOAA), Commerce.

ACTION: Proposed specifications; request for comments.

SUMMARY: NMFS proposes specifications for the 2014-2016 Atlantic deep-sea red crab fishery, including an annual catch limit and total allowable landings. The intent of this action is to establish the allowable 2014-2016 harvest levels and other management measures to achieve the target fishing mortality rate, consistent with the Atlantic Deep-Sea Red Crab Fishery Management Plan.

DATES: Comments must be received on or before March 26, 2014.

ADDRESSES: You may submit comments, identified by NOAA-NMFS-2014-0004, by any one of the following methods:

• Electronic Submissions: Submit all electronic public comments via the Federal e-Rulemaking portal. Go to www.regulations.gov/#!docketDetail;D=NOAA-NMFS-2014-0004, click the “Comment Now!” icon, complete the required fields, and enter or attach your comments.

• Mail: Submit written comments to John Bullard, Regional Administrator, NMFS, Greater Atlantic Regional Fisheries Office, 55 Great Republic Drive, Gloucester, MA 01930.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publically accessible. NMFS will accept anonymous comments (enter “N/A” in the required fields if you wish to remain anonymous). Attachments to electronic comments will be accepted in Microsoft Word, Excel, or Adobe PDF file formats only.

Copies of the specifications document, including the Initial Regulatory Flexibility Analysis (IRFA) and other supporting documents for the specifications, are available from Thomas A. Nies, Executive Director, New England Fishery Management Council, 50 Water Street, Mill 2, Newburyport, MA 01950. The specifications document is also accessible via the Internet at: http://www.nero.noaa.gov.

FOR FURTHER INFORMATION CONTACT: Carly Bari, Fishery Management Specialist, (978) 281-9224.

SUPPLEMENTARY INFORMATION:

Background

The Atlantic deep-sea red crab fishery is managed by the New England Fishery Management Council (Council). Regulations implementing the Atlantic Deep-Sea Red Crab Fishery Management Plan (FMP) appear at 50 CFR part 648, subparts A and M. The regulations requiring triennial specifications are found at § 648.260.

The FMP requires the Council to recommend, on a triennial basis, the annual catch limit (ACL) and total allowable landings (TAL) that will control the fishing mortality rate (F). Estimates of stock size, coupled with the target F, allow for a calculation of acceptable biological catch (ABC), which is recommended by the Council's Scientific and Statistical Committee (SSC). The annual review process for red crab requires that the SSC review and make recommendations based on the best available scientific information, including catch/landing statistics, current estimates of fishing mortality, stock abundance, and juvenile recruitment. Based on the recommendations of the SSC, the Council makes a recommendation to the NMFS Regional Administrator.

The Council's recommendations must include supporting documentation concerning the environmental, economic, and social impacts of the recommendations. NMFS is responsible for reviewing these recommendations to ensure that they achieve the FMP objectives, and may modify them if they do not. NMFS then publishes proposed specifications in the Federal Register, and after considering public comment, NMFS will publish final specifications in the Federal Register.

The FMP was implemented in October 2002 and was originally managed under a target total allowable catch (TAC) and days-at-sea (DAS) system that allocated DAS equally across the fleet of limited access permitted vessels. Amendment 3 to the FMP removed trip limit restrictions, and replaced the target TAC and DAS allocation with a TAL in order to ensure consistency with the ACL and accountability measure requirements of the Magnuson-Stevens Fishery Conservation and Management Act (Magnuson-Stevens Act). Under Amendment 3, the 2011-2013 red crab specifications were set with an ABC equal to the long-term average landings of the directed red crab fishery (3.91 million lb, 1,775 mt), due to the lack of better scientific information on the red crab stock.

Proposed Specifications

Biological and Management Reference Points

The biological and management reference points currently in the Red Crab FMP are used to determine whether overfishing is occurring or if the stock is overfished. However, these reference points for red crab do not currently meet Magnuson-Stevens Act National Standard 1 criteria. As a result, there is insufficient information on the species to establish the maximum sustainable yield (MSY), optimum yield (OY), or overfishing limit (OFL), and ABC is defined in terms of landings instead of total catch.

2014-2016 Catch Limits

The Council's recommendation for the 2014-2016 red crab specifications are based on the results of the most recent peer-reviewed assessment of the red crab fishery carried out by the Data Poor Stocks Working Group in 2009 and recommendations from the SSC. The proposed specifications include a TAL that is the same as levels currently in effect under Amendment 3. Based on this information and the SSC's recommendation, the Council believes the TAL is safely below an undetermined overfishing threshold and adequately accounts for scientific uncertainty.

Recent landings, landing per unit of effort, port samples, discard information, and economic data suggest there has been no change in the size of the red crab stock since Amendment 3 was implemented in 2011. Therefore, the Council is proposing status quo specifications for the 2014-2016 fishing years:

| mt | Million lb
MSY | undetermined.
OFL | undetermined.
OY | undetermined.
ABC | 1,775 | 3.91.
ACL | 1,775 | 3.91.
TAL | 1,775 | 3.91.

Classification

Pursuant to section 304(b)(1)(A) of the Magnuson-Stevens Fishery Conservation and Management Act (Magnuson-Stevens Act), the NMFS Assistant Administrator has determined that this proposed rule is consistent with the Atlantic Deep-Sea Red Crab FMP, other provisions of the Magnuson-Stevens Act, and other applicable law, subject to further consideration after public comment.

These proposed specifications are exempt from review under Executive Order 12866.

An IRFA was prepared, as required by section 603 of the Regulatory Flexibility Act (RFA), which describes the economic impact this proposed rule, if adopted, would have on small entities. A description of the action, why it is being considered, and the legal basis for this action are contained at the beginning of this preamble and in the SUMMARY. A summary of the analysis follows. A copy of this analysis is available from the Council (see ADDRESSES).

All of the entities (fishing vessels) affected by this action are considered small entities under the Small Business Administration size standards for small shellfishing businesses (i.e., they have less than $5.0 million in annual gross sales). Therefore, there are no disproportionate effects on small versus large entities.

This action does not introduce any new reporting, recordkeeping, or other compliance requirements. This proposed rule does not duplicate, overlap, or conflict with other Federal rules.

The participants in the commercial red crab fishery were defined as those vessels issued limited access red crab permits. Information about vessel ownership has been made available for all federal permit holders, which allows for the identification of business entities that comprise multiple fishing vessels. As of December 2013, there are two business entities and four vessels with limited access red crab permits actively operating in the red crab fishery. The total value of landings from all sources from 2010 to 2012 averaged $3.46 million, so all business entities in the harvested sector can be categorized as small businesses for the purpose of the RFA.

Commercial Fishery Impacts

The proposed action will affect all business entities and four vessels in the directed red crab fishery. However, it is not expected to have any impact on the gross or average revenues for the fishery because it does not change the total allowable landings level, which is 3.913 million lb (1,775 mt). This harvest level is substantially higher than average landings in recent years (3.097 million lb (1,404 mt) from fishing years 2010-2012), and is not expected to constrain landings unless markets for red crab substantially improve or major new markets develop.

Information on costs in the fishery is not readily available and individual vessel profitability cannot be determined directly; therefore, expected changes in gross revenues were used as a proxy for profitability. For the four participating vessels in 2010-2012, average total sales were $865,272 per vessel per year. Because the proposed action would retain current harvest levels, it would not directly constrain or reduce the gross revenues per vessel, nor would it impact the profits of individual vessels. Therefore, it is not necessary to analyze impacts according to the dependence of each vessel in the red crab fishery.

Authority: 16 U.S.C. 1801 et seq.

Dated: March 5, 2014.
Eileen Sobeck,
Assistant Administrator for Fisheries, National Marine Fisheries Service.

[FR Doc. 2014-05156 Filed 3-10-14; 8:45 am]

BILLING CODE 3510-22-P